AGENCY FOR INTERNATIONAL DEVELOPMENT

Notice of Meeting

Pursuant to the Federal Advisory Committee Act, notice is hereby given of a meeting of the Advisory Committee on Voluntary Foreign Aid (ACVFA).

Date: Tuesday, June 9, 2009 (9 a.m. to 3 p.m., times may be adjusted).

Location: Jack Morton Auditorium, Media and Public Affairs Building, George Washington University, 805 21st Street, NW., Washington, DC 20052.

Please note that this is the anticipated agenda and is subject to change.

Keynote

The Administrator-designate, or if there is not yet a designated nominee, the Acting Administrator, Alonzo Fulgham, will present an update from the front office of USAID on the current initiatives underway at USAID.

Keynote

Gayle Smith, Senior Director for Reconstruction, Stabilization, and Development at the National Security Council, will bring perspectives from the NSC.

The primary focus of the meeting will be on monitoring and evaluation. There will be two panel discussions on this topic.

Panel Discussion 1—Current efforts in evaluations at USAID.

Panel Discussion 2—Best Practices in Evaluations from Various USAID Stakeholders.

The meeting is free and open to the public. Persons wishing to attend the meeting can register online at http://www.usaid.gov/about_usaid/acvfa or with Deborah Lewis at dlewis@usaid.gov or 202-712-0936.

Dated: April 29, 2009.
Deborah Lewis,
Office of the Chief Operating Officer, U.S. Agency for International Development.

[FR Doc. E9-10944 Filed 5-8-09; 8:45 am]

BILLING CODE P